DEPARTMENT OF THE INTERIOR

National Park Service

[NPS-WASO-NAGPRA-NPS0030386; PPWOCRADN0-PCU00RP14.R50000]

Notice of Intent to Repatriate Cultural Items: Hudson Museum, University of Maine, Orono, ME

AGENCY: National Park Service, Interior.

ACTION: Notice.

SUMMARY: The Hudson Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Hudson Museum, University of Maine. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Hudson Museum, University of Maine at the address in this notice by August 5, 2020.

ADDRESSES: Gretchen Faulkner, Director, Hudson Museum, University of Maine, 5746 Collins Center for the Arts, Orono, ME 04469, telephone (207) 581-1904, email gretchen.faulkner@maine.edu.

SUPPLEMENTARY INFORMATION: Notice is here given in accordance with the Native American Graves Protection and Repatriation Act (NAGPRA), 25 U.S.C. 3005, of the intent to repatriate cultural items under the control of the Hudson Museum, University of Maine, Orono, ME, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The five items listed below were acquired by William P. Palmer III. In 1982, Palmer bequeathed the items to the University of Maine and they became part of the Hudson Museum's holdings.

HM5510, a Tlingit Shaman's pipe from Kake Village on Kupreanof Island, Alaska, was collected by George Thornton Emmons and accessioned by the Heye Foundation (catalog number 1/2922). On March 15, 1967, the Heye Foundation transferred this piece to Morton D. May. Subsequently, it was acquired by William P. Palmer III.

HM3222, a Tlingit Shaman's guardian figure, was formerly part of the Christian Rub Collection, Santa Barbara, California. It was acquired by William P. Palmer III from Proctor Stafford, Los Angeles, California.

HM5574, a Tlingit Shaman's mask representing the porpoise spirit, was collected by George Thornton Emmons and accessioned by the Heye Foundation (catalog number 11/1751). In June of 1949, the Heye Foundation transferred this piece to Julius Carlebach. Subsequently, Morton D. May acquired it from Carlebach. Later, it was acquired by William P. Palmer III.

HM5500 is a Tlingit Shaman's guardian figure. Records for this object appear to indicate that around 1968, this figure was acquired by William P. Palmer III from Walt Killiam, a dealer in Chester, Connecticut.

HM5460, is a Tlingit Raven grave totem. Records for this object indicate that it originally hung in the Elks Lodge, Juneau, Alaska. It was formerly in the collection of Axel Rasmussen, William Spratling, and Proctor Stafford. William P. Palmer III acquired it from Proctor Stafford.

In June 2018, a delegation from the Central Council of the Tlingit & Haida Indian Tribes came to the Hudson Museum, University of Maine to consult on these objects. The group included Harold Jacobs, Sarah Dybdahl, Stephanie Masterman, Herman Davis Sr., Herman Davis, Jr. and Neeka Cook. In conjunction with the Hudson Museum staff and Hudson Museum cooperating curators, it was determined that these objects are culturally affiliated with the Central Council of the Tlingit & Haida Indian Tribes.

Determinations Made by the Hudson Museum, University of Maine

Officials of the Hudson Museum, University of Maine have determined that:

• Pursuant to 25 U.S.C. 3001(3)(B), the five cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Central Council of the Tlingit & Haida Indian Tribes.

Additional Requestors and Disposition

Lineal descendants or representatives of any Indian Tribe or Native Hawaiian organization not identified in this notice that wish to claim these cultural items should submit a written request with information in support of the claim to Gretchen Faulkner, Director, Hudson Museum, University of Maine, 5746 Collins Center for the Arts, Orono, ME 04469, telephone (207) 581-1904, email gretchen.faulkner@maine.edu, by August 5, 2020. After that date, if no additional claimants have come forward, transfer of control of the unassociated funerary objects to the Central Council of the Tlingit & Haida Indian Tribes may proceed.

The Hudson Museum, University of Maine is responsible for notifying the Central Council of the Tlingit & Haida Indian Tribes that this notice has been published.

Dated: May 27, 2020.
Melanie O'Brien,
Manager, National NAGPRA Program.

[FR Doc. 2020-14397 Filed 7-2-20; 8:45 am]

BILLING CODE 4312-52-P